DEPARTMENT OF AGRICULTURE

Forest Service

Notice of Meeting; Federal Lands Recreation Enhancement Act (Title VIII, Pub. L. 108-447)

AGENCY: Pacific Southwest Region, Forest Service, U.S. Department of Agriculture.

ACTION: Notice of meeting.

SUMMARY: The Pacific Southwest Recreation Resource Advisory Committee (Recreation RAC) will hold a meeting in Mammoth Lakes, California. The purpose of this meeting is to conduct a field trip to view fee sites on the Inyo National Forest and to make recommendations for fee proposals for expanded amenity fees on the Inyo, Modoc, Plumas, Sequoia and Stanislaus National Forests and the San Joaquin River Gorge Management Area, Central California District, Bureau of Land Management, elimination of an expanded amenity fee on the Inyo National Forest, standard amenity fees on the Inyo National Forest and San Joaquin River Gorge Management Area, Central California District, Bureau of Land Management and special recreation permit, Dumont Dunes, California Desert District, Bureau of Land Management.

DATES: The meeting will be held June 23, 2010 from 8 a.m.-5 p.m. and June 24, 2010 from 8 am. to 2 p.m.

ADDRESSES: The meeting will be held at various sites on the Inyo National Forest on the first day and in the Mountain View Room, Sierra Nevada Lodge, 164 Old Mammoth Road, Mammoth Lakes, CA 93546 on the second day. Members of the public wishing to participate on the field trip will need to provide their own transportation. Send written comments to Marlene Finley, Designated Federal Official for the Pacific Southwest Region Recreation RAC, 1323 Club Drive, Vallejo, CA 94592, 707-562-8856 or mfinley01@fs.fed.us.

FOR FURTHER INFORMATION CONTACT: Marlene Finley, Designated Federal Official, Pacific Southwest Region Recreation RAC, 1323 Club Drive, Vallejo, CA 94592.

SUPPLEMENTARY INFORMATION: The meeting is open to the public. Committee discussion is limited to Forest Service and Bureau of Land Management staff and Committee members. However, persons who wish to bring recreation fee matters to the attention of the Committee may file written statements with the Committee staff before or after the meeting. A public input session will be provided during the meeting and individuals who wish to address the Recreation RAC will have an opportunity at 9:30 a.m. on June 24. Comments will be limited to three minutes per person. The Recreation RAC is authorized by the Federal Land Recreation Enhancement Act, which was signed into law by President Bush in December 2004.

Dated: May 21, 2010.
Valerie Guardia,
Acting Designated Federal Official, Recreation RAC, Pacific Southwest Region.

[FR Doc. 2010-12821 Filed 5-28-10; 8:45 am]

BILLING CODE 3410-11-M